DEPARTMENT OF COMMERCE

International Trade Administration

[A-428-830, A-475-829]

Stainless Steel Bar from Germany and Italy: Notice of Extension of Time Limit for 2001-2003 Administrative Reviews

AGENCY: Import Administration, International Trade Administration, Department of Commerce

ACTION: Notice of Extension of Time Limit.

SUMMARY: The Department of Commerce is extending the time limit for the preliminary results of the current reviews of the antidumping duty orders on stainless steel bar from Germany and Italy. The period of review is August 2, 2001 through February 28, 2003. This postponement is made pursuant to section 751(a)(3)(A) of the Tariff Act of 1930, as amended.

EFFECTIVE DATE: October 28, 2003.

FOR FURTHER INFORMATION CONTACT: Andrew Smith (Germany) at (202) 482-1276 or Blanche Ziv (Italy) at (202) 482-4207, Import Administration, International Trade Administration, U.S. Department of Commerce, 14th Street and Constitution Avenue, NW, Washington, DC 20230.

SUPPLEMENTARY INFORMATION:

Background

On April 21, 2003, the Department of Commerce (“the Department”) published a notice of initiation of administrative reviews of the antidumping duty orders on stainless steel bar from Germany and Italy covering the period August 2, 2001 through February 28, 2003. See Notice of Initiation of Antidumping and Countervailing Duty Administrative Reviews, 68 FR 19498 (April 21, 2003). The preliminary results for these reviews are currently due no later than December 1, 2003.

Extension of Time Limits for Preliminary Results

Section 751(a)(3)(A) of the Tariff Act of 1930, as amended (“the Act”), requires the Department to issue the preliminary results of an administrative review within 245 days after the last day of the anniversary month of an order for which a review is requested and a final determination within 120 days after the date on which the preliminary results are published. However, if it is not practicable to complete the review within the time period, section 751(a)(3)(A) of the Act allows the Department to extend these deadlines to a maximum of 365 days and 180 days, respectively.

We are currently analyzing complicated sales and cost information that have required numerous supplemental questionnaire responses. In addition, we intend to verify the sales and cost information provided by the respondents in accordance with 19 CFR 351.307 (b)(1)(iv). Accordingly, it is not practicable to complete the preliminary results in these reviews within the originally anticipated time limit (i.e., December 1, 2003). Therefore, the Department is extending the time limit for completion of the preliminary results to no later than January 30, 2004, in accordance with section 751(a)(3)(A) of the Act.

We are issuing and publishing this notice in accordance with sections 751(a)(1) and 777(i)(1) of the Act.

Dated: October 23, 2003.
Jeffrey A. May,
Deputy Assistant Secretary for AD/CVD Enforcement.

[FR Doc. 03-27164 Filed 10-27-03; 8:45 am]

BILLING CODE 3510-DS-S